DEPARTMENT OF ENERGY

Federal Energy Regulatory Commission

Combined Notice of Filings

Take notice that the Commission has received the following Natural Gas Pipeline Rate and Refund Report filings:

Filings Instituting Proceedings

Docket Number: PR17-66-000.

Applicants: Worsham-Steed Gas Storage, LLC.

Description: Five Year Updated Market Power Assessment of Worsham-Steed Gas Storage, LLC.

Filed Date: 5/9/17.

Accession Number: 201705095146.

Comments/Protests Due: 5 p.m. ET 12/7/17.

Docket Numbers: RP18-161-000.

Applicants: Gulf South Pipeline Company, LP.

Description: § 4(d) Rate Filing: Cap Rel Neg Rate Agmt (EOG 34687 to Tenaska 48776) to be effective11/16/2017.

Filed Date: 11/15/17.

Accession Number: 20171115-5086.

Comments Due: 5 p.m. ET 11/27/17.

Docket Numbers: RP18-162-000.

Applicants: Discovery Gas Transmission LLC.

Description: § 4(d) Rate Filing: 2018 HMRE Surcharge Filing to be effective 1/1/2018.

Filed Date: 11/15/17.

Accession Number: 20171115-5147.

Comments Due: 5 p.m. ET 11/27/17.

Docket Numbers: RP18-163-000.

Applicants: Texas Eastern Transmission, LP.

Description: § 4(d) Rate Filing: TETLP Nov2017 Cleanup—Remove Terminated Negotiated Rates to be effective 12/16/2017.

Filed Date: 11/16/17.

Accession Number: 20171116-5021.

Comments Due: 5 p.m. ET 11/28/17.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified date(s). Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: November 16, 2017.
Nathaniel J. Davis, Sr.,
Deputy Secretary.

[FR Doc. 2017-25588 Filed 11-27-17; 8:45 am]

BILLING CODE 6717-01-P